DEPARTMENT OF COMMERCE

Foreign-Trade Zones Board

[Docket 21-2011]

Foreign-Trade Zone 47—Boone County, KY; Application for Reorganization Under Alternative Site Framework

An application has been submitted to the Foreign-Trade Zones (FTZ) Board (the Board) by the Greater Cincinnati Foreign Trade Zone, Inc. grantee of FTZ 47, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 15, 2011.

FTZ 47 was approved by the Board on January 12, 1979 (Board Order 141, 44 FR 4003, 1/19/79) and expanded on December 23, 1993 (Board Order 674, 59 FR 1371, 1/10/94) and September 27, 2001 (Board Order 1194, 66 FR 52740, 10/17/01).

The current zone project includes the following sites: Site 1 (22 acres)—Northern Kentucky Business Center, 1670 Dolwick Drive, Erlanger, Boone County; and, Site 2 (185 acres)—Park West International Industrial Park, 1500 Worldwide Boulevard, Hebron, Boone County, Kentucky.

The grantee's proposed service area under the ASF would be Boone, Kenton and Campbell Counties, Kentucky, as described in the application. If approved, the grantee would be able to serve sites throughout the service area based on companies' needs for FTZ designation. The proposed service area is within and adjacent to the Cincinnati Customs and Border Protection port of entry.

The applicant is requesting authority to reorganize its existing zone project to include Site 1 as a “usage-driven” site and Site 2 as a “magnet” site. The applicant is also requesting that 15 acres be deleted from Site 1 due to changed circumstances. Because the ASF only pertains to establishing or reorganizing a general-purpose zone, the application would have no impact on FTZ 47's authorized subzones.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is May 17, 2011. Rebuttal comments in response to material submitted during the foregoing period may be submitted during the subsequent 15-day period to June 1, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Elizabeth Whiteman at Elizabeth.Whiteman@trade.gov or (202) 482-0473.

Dated: March 15, 2011.
Andrew McGilvray,
Executive Secretary.

[FR Doc. 2011-6447 Filed 3-17-11; 8:45 am]

BILLING CODE 3510-DS-P